DEPARTMENT OF TRANSPORTATION

Federal Aviation Administration

14 CFR Part 39

[Docket No. FAA-2012-1217; Directorate Identifier 2012-NE-39-AD; Amendment 39-17414; AD 2013-07-10]

RIN 2120-AA64

Airworthiness Directives; International Aero Engines AG Turbofan Engines

AGENCY: Federal Aviation Administration (FAA), DOT.

ACTION: Final rule.

SUMMARY: We are adopting a new airworthiness directive (AD) for certain International Aero Engines AG (IAE), V2525-D5 and V2528-D5 turbofan engines, with a certain No. 4 bearing internal scavenge tube and a certain No. 4 bearing external scavenge tube installed. This AD was prompted by a report of an engine under-cowl fire and commanded in-flight shutdown. This AD would require replacement of certain part number (P/N) No. 4 bearing internal scavenge tubes, and alignment checks of certain P/N No. 4 bearing external scavenge tubes. We are issuing this AD to prevent engine fire and damage to the airplane.

DATES: This AD is effective May 20, 2013.

The Director of the Federal Register approved the incorporation by reference of a certain publication listed in the AD as of May 20, 2013.

ADDRESSES: For service information identified in this AD, contact International Aero Engines, 628 Hebron Avenue, Suite 400, Glastonbury, CT 06033; phone: 860-368-3823; fax: 860-755-6876. You may view this service information at the FAA, Engine & Propeller Directorate, 12 New England Executive Park, Burlington, MA 01803. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Martin Adler, Aerospace Engineer, Engine & Propeller Directorate, FAA, 12 New England Executive Park, Burlington, MA 01803; phone: 781-238-7157; fax: 781-238-7199; email: martin.adler@faa.gov.

SUPPLEMENTARY INFORMATION:

Discussion

We issued a notice of proposed rulemaking (NPRM) to amend 14 CFR part 39 to include an AD that would apply to the specified products. That NPRM published in the Federal Register on January 9, 2013 (78 FR 1776). That NPRM proposed to require the replacement of all No. 4 bearing internal scavenge tubes, P/N 2A2074-01. That NPRM also proposed to require checking the alignment of the No. 4 bearing external scavenge tube, P/N 6A5254, and if it fails the check, proposed to require replacement of the external scavenge tube.

Comments

We gave the public the opportunity to participate in developing this AD. The following presents the comment received on the proposal and the FAA's response to the comment.

Request To Change the Compliance Time

The National Transportation Safety Board (NTSB) requested that the AD include a maximum number of allowable cycles for the No. 4 bearing internal scavenge tube. The NTSB is concerned that the proposed AD requirement to remove the internal scavenge tube at the next combustor module-level exposure has the potential to leave the tube installed indefinitely.

We do not agree. Required maintenance provides sufficient limitations on the maximum number of cycles that the No. 4 bearing internal scavenge tube can experience. We did not change the AD.

Conclusion

We reviewed the relevant data, considered the comment received, and determined that air safety and the public interest require adopting the AD as proposed.

Costs of Compliance

We estimate that this AD will affect 123 engines installed on airplanes of U.S. registry. We estimate that it will take 1.5 hours per engine to replace the No. 4 bearing internal scavenge tube, and 3 hours per engine to replace the No. 4 bearing external scavenge tube. Required parts will cost $25,251 per engine. The average labor rate is $85 per hour. Based on these figures, we estimate the cost of the AD on U.S. operators to be $3,152,921.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-07-10 International Aero Engines AG: Amendment 39-17414; Docket No. FAA-2012-1217; Directorate Identifier 2012-NE-39-AD.

(a) Effective Date

This AD is effective May 20, 2013.

(b) Affected ADs

None.

(c) Applicability

This AD applies to International Aero Engines AG (IAE), V2525-D5 and V2528-D5 turbofan engines, serial numbers V20001 through V20285, with No. 4 bearing internal scavenge tube, part number (P/N) 2A2074-01, and No. 4 bearing external scavenge tube, P/N 6A5254, installed.

(d) Unsafe Condition

This AD was prompted by a report of an engine under-cowl fire and commanded in-flight shutdown. We are issuing this AD to prevent engine fire and damage to the airplane.

(e) Compliance

Comply with this AD within the compliance times specified, unless already done.

(f) No. 4 Bearing Internal Scavenge Tube, P/N 2A2074-01, Replacement

Replace the No. 4 bearing internal scavenge tube, P/N 2A2074-01, at each combustor module-level exposure after the No. 4 bearing internal scavenge tube has accumulated 10,000 flight cycles (FCs) since new. If the FCs on the tube cannot be confirmed, replace the tube at each combustor module-level exposure.

(g) No. 4 Bearing External Scavenge Tube, P/N 6A5254, Installation

At each installation, check the alignment of the No. 4 bearing external scavenge tube, P/N 6A5254, in accordance with paragraph 3.A. PART 2, of IAE Non-Modification Service Bulletin (NMSB) No. V2500-ENG-72-0630, Revision 1, dated September 20, 2012. If the tube is misaligned, replace with a new tube.

(h) Definition

Combustor module-level exposure is defined as separation of the combustor case and the compressor case flanges.

(i) Alternative Methods of Compliance (AMOCs)

The Manager, Engine Certification Office, FAA, may approve AMOCs to this AD. Use the procedures found in 14 CFR 39.19 to make your request.

(j) Related Information

For more information about this AD, contact Martin Adler, Aerospace Engineer, Engine & Propeller Directorate, FAA, 12 New England Executive Park, Burlington, MA 01803; phone: 781-238-7157; fax: 781-238-7199; email: martin.adler@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) International Aero Engines AG Non-Modification Service Bulletin No. V2500-ENG-72-0630, Revision 1, dated September 20, 2012.

(ii) Reserved.

(3) For service information identified in this AD, contact International Aero Engines AG, 628 Hebron Avenue, Suite 400, Glastonbury, CT 06033; phone: 860-368-3823; fax: 860-755-6876.

(4) You may view this service information at the FAA, Engine & Propeller Directorate, 12 New England Executive Park, Burlington, MA 01803. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on March 3, 2013.
Colleen M. D'Alessandro,
Assistant Manager, Engine & Propeller Directorate, Aircraft Certification Service.

[FR Doc. 2013-08448 Filed 4-12-13; 8:45 am]

BILLING CODE 4910-13-P